DEPARTMENT OF DEFENSE

Defense Acquisition Regulations System

48 CFR Chapter 2

Defense Federal Acquisition Regulation Supplement; Appendix A, Armed Services Board of Contract Appeals, Part 1—Charter

CFR Correction

In Title 48 of the Code of Federal Regulations, Chapter 2 (Parts 201 to 299), revised as of October 1, 2012, on page 573, in Appendix A to Chapter 2, add two lines to the list immediately preceding Part 1—Charter to read as follows:

Appendix A to Chapter 2—Armed Services Board of Contract Appeals

* * * * *

Armed Services Board of Contract Appeals

* * * * *

Revised 27 June 2000.

Revised 14 May 2007.

* * * * *

[FR Doc. 2013-20699 Filed 8-22-13; 8:45 am]

BILLING CODE 1505-01-D